DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Licensing of Private Remote-Sensing Space Systems.

OMB Control Number: 0648-0174.

Form Number(s): None.

Type of Request: Regular (Revision of a current approved information collection.)

Number of Respondents: 51.

Average Hours per Response: 40 hours for the submission of a license application; 10 hours for the submission of a data protection plan; 5 hours for the submission of a plan describing how the licensee will comply with data collection restrictions; 3 hours for the submission of an operations plan for restricting collection or dissemination of imagery of Israeli territory; 0.5 hours for the submission of a public summary for a licensed system; 1 hour for notification of completion of pre-ship review; 3 hours for the submission of a license amendment; 2 hours for the submission of a foreign agreement notification; 1 hour for the submission of spacecraft operational information submitted when a spacecraft becomes operational; 2 hours for notification of planned purges of information to the National Satellite Land Remote Sensing Data Archive; 3 hours for the submission of an operational quarterly report; 4 hours for an annual compliance audit; and 1 hour for notification of the demise of a system or a decision to discontinue system operations.

Burden Hours: 1,438.

Needs and Uses: The information is being collected as a necessary step to regulate the private space-based remote sensing industry, which involves issuing licenses to applicants and ensuring their compliance with license terms. The Department of Commerce (DOC), through the National Oceanic and Atmospheric Administration (NOAA), has the authority to regulate private space-based remote sensing under the Land Remote Sensing Policy Act of 1992, 51 U.S.C. 60101 et seq. (the Act) and regulations at 15 CFR part 960. The regulations facilitate the development of the U.S. private remote sensing industry and thus promote the collection and widespread availability of remote sensing data, while preserving essential U.S. national security interests and observing international obligations.

Applications are made in response to the requirements in the Act, as amended, and no collection forms are used. The application information received is used to determine if the applicant meets the legal criteria for issuance of a license to operate a private remote sensing space system i.e., the proposed system will be operated in accordance with the Act, U.S. national security concerns and international obligations. Application information includes: Corporate information; launch segment information; space segment information; ground segment information; plans and/or pricing policy for providing access to or distributing the unenhanced data generated by the system; and the plan for post-mission disposition of any Remote Sensing satellites.

Once an applicant holds a license, he/she is subject to amendment filings and notification requirements concerning an executive summary of the licensed system, foreign agreements, deviation in orbits, planned disposition of the spacecraft, data protection plans, preliminary design reviews, critical design reviews, certification of launch contract and pre-ship review of the satellite; and notification of system demise or decision to discontinue operations. The licensee is required to provide NOAA an executive summary that can be provided to the public within 30 days of obtaining a NOAA license.

Monitoring and compliance information is used to ascertain that the licensee's activities meet the requirements of the Act, applicable regulations, and license conditions. The following information collections serve as part of the monitoring and compliance function: Annual compliance audits; data collection restriction plans; operation plans for restricting collection and dissemination of imaging Israeli territory; data flow diagrams; satellite sub-system diagrams and imaging system specification sheets; operational declarations; quarterly reports; purge notifications; and annual operational audits.

NOAA notes the differences between this revision and the previous extension of this collection of information. First, although it appears that there are new collections of information (specifically, the Data Protection Plan, the Data Collection Restrictions Compliance Plan, the Plan for Restricted Operations Over Israel, and the Public Summary), each of these requirements were discussed in the 2017 Federal Register Notice and the Supporting Statement. These requirements are not new; they appear to have been inadvertently omitted from the list of information collections in the 2017 extension. This revision corrects that error.

Second, several information collections have been removed. The Data Flow Diagram has been removed as it is now part of the Data Protection Plan. The Satellite Subsystems Drawings, Submission of Preliminary Design Review, Submission of Critical Design Review, and Notification of Binding Launch Service Contract are no longer required because after NOAA's review of certain material information over the last 20 years, NOAA determined that these documents are no longer relevant to the license determination process. The Notification of Any Operational Deviation is now part of the Quarterly Audit. Finally, the Annual Operational Audit is now part of the Annual Compliance Audit.

Affected Public: Business or other for-profit organizations (primary); non-profit organizations (secondary).

Frequency: Quarterly, annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-01149 Filed 1-23-20; 8:45 am]

BILLING CODE 3510-HR-P